DEPARTMENT OF HEALTH AND HUMAN SERVICES

Centers for Medicare & Medicaid Services

[Document Identifier: CMS-10143, CMS-R-295, CMS-R-79, and CMS-R-10]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Monthly State File of Medicaid/Medicare Dual Eligible Enrollees and Supporting Regulations in 42 CFR 423.900 through 423.910; Use: The monthly file of dual eligible enrollees will be used to determine those duals with drug benefits for the phased-down State contribution process required by the Medicare Modernization Act of 2003 (MMA). Section 103(a)(2) of the MMA addresses the phased-down State contribution (PDSC) process for the Medicare program. The reporting of the Medicare/Medicaid dual eligibles on a monthly basis is necessary to implement those provisions, and to Support Part D subsidy determinations and auto-assignment of individuals to Part D plans. The PDSC is a partial recoupment from the States of ongoing Medicaid drug costs for dual eligibles assumed by Medicare under MMA, which absent the MMA would have been paid for by the States; Form Number: CMS-10143 (OMB#: 0938-NEW); Frequency: Recordkeeping and Monthly reporting; Affected Public: State, Local or Tribal Government; Number of Respondents: 51; Total Annual Responses: 612; Total Annual Hours: 10,710.

2. Type of Information Collection Request: Extension of a currently approved collection; Title of Information Collection: Medicare CAHPS Disenrollment Surveys and Supporting Regulations in 42 CFR 417.126, 417.470, 422.64, and 422.210; Use: This survey helps Medicare track a variety of consumer satisfaction measures relating to Medicare beneficiaries who leave their MA plans. The Centers for Medicare & Medicaid Services (CMS) has a responsibility to its Medicare beneficiaries to require that care provided by managed care organizations under contract to CMS is of high quality. One way of ensuring high quality care is through the development of performance measures and standardized satisfaction surveys that enable CMS to gather the data needed to evaluate the care provided to Medicare beneficiaries; Form Number: CMS-R-295 (OMB#: 0938-0779); Frequency: Quarterly; Affected Public: Individuals or Households; Number of Respondents: 44,200; Total Annual Responses: 41,697; Total Annual hours: 17,823.

3. Type of Information Collection Request: Extension of a currently approved collection; Title of Information Collection: Payment Adjustment for Sole Community Hospitals and Supporting Regulations in 42 CFR 412.92; Form No.: CMS-R-79 (OMB# 0938-0477); Use: This collection provides that if a hospital that is classified as a sole community hospital (SCH) experiences, due to circumstances beyond its control, a decrease of more than 5 percent in its total number of discharges compared to the immediately preceding cost reporting period, the hospital may apply for a payment adjustment. To qualify for this adjustment to its payment rate an SCH must submit documentation, including cost information as requested by CMS, to the intermediary; Frequency: On occasion; Affected Public: Not-for-profit institutions, Business or other for-profit, and State, Local or Tribal Government; Number of Respondents: 40; Total Annual Responses: 40; Total Annual Hours: 160.

4. Type of Information Collection Request: Extension of a currently approved collection; Title of Information Collection: Information Collection Requirements Contained in BPD-718: Advance Directives (Medicare and Medicaid) and Supporting Regulations in 42 CFR 417.436, 417.801, 422.128, 430.12, 431.20, 431.107, 438.6, 440.170, 483.10, 484.10, and 489.102; Form No.: CMS-R-10 (OMB# 0938-0610); Use: Steps have been taken at both the Federal and State level, to afford greater opportunity for the individual to participate in decisions made concerning the medical treatment to be received by an adult patient in the event that the patient is unable to communicate to others, a preference about medical treatment. The individual may make his preference known through the use of an advance directive, which is a written instruction prepared in advance, such as a living will or durable power of attorney. This information is documented in a prominent part of the individual's medical record. Advance directives as described in the Patient Self-Determination Act (enacted in 1991) have increased the individual's control over decisions concerning medical treatment. The advance directives requirement was enacted because Congress wanted individuals to know that they have a right to make health care decisions and to refuse treatment even when they are unable to communicate.; Frequency: On occasion; Affected Public: Business or other for-profit; Number of Respondents: 33,096; Total Annual Responses: 33,096; Total Annual Hours: 924,120.

To obtain copies of the supporting statement and any related forms for the proposed paperwork collections referenced above, access CMS” Web Site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice directly to the CMS Paperwork Reduction Act Reports Clearance Officer designated at the address below:

CMS, Office of Strategic Operations and Regulatory Affairs, Division of Regulations Development, Attention: Melissa Musotto, Room C4-26-05, 7500 Security Boulevard, Baltimore, Maryland 21244-1850.

Dated: March 4, 2005.
John P. Burke, III,
CMS Paperwork Reduction Act Reports Clearance Officer, Office of Strategic Operations and Regulatory Affairs, Regulations Development Group.

[FR Doc. 05-4887 Filed 3-10-05; 8:45 am]

BILLING CODE 4120-03-P